DEPARTMENT OF THE INTERIOR

Bureau of Land Management

Notice of Availability of Record of Decision for the Black Rock Desert-High Rock Canyon Emigrant Trails National Conservation Area (NCA) and Associated Wilderness and Other Contiguous Lands in Nevada, Resource Management Plan (RMP)/Environmental Impact Statement (EIS), Nevada

AGENCY: Bureau of Land Management, Interior.

ACTION: Notice of availability of Record of Decision (ROD).

SUMMARY: In accordance with the National Environmental Policy Act (NEPA), the Federal Land Policy and Management Act (FLPMA), Bureau of Land Management (BLM) policies, and the Black Rock Desert-High Rock Canyon Emigrant Trails National Conservation Area Act of 2000 (Public Law 106-554), the BLM announces the availability of the RMP/ROD for the Black Rock Desert-High Rock Canyon Emigrant Trails National Conservation Area Planning Area, located in northwestern Nevada. The Nevada and California State Directors will sign the RMP/ROD, which becomes effective immediately.

ADDRESSES: Copies of the Black Rock Desert-High Rock Canyon Emigrant Trails National Conservation Area (NCA) and Associated Wilderness and Other Contiguous Lands in Nevada RMP/ROD are available upon request from the Field Manager, Winnemucca Field Office, Bureau of Land Management, 5100 E Winnemucca Blvd., Winnemucca, Nevada 89445-2921, or via the Internet at http://www.blackrockhighrock.org. Copies of the RMP/ROD are also available for public inspection at the following repositories: University of Nevada-Reno Getchell Library, Reno, NV; Humboldt County Library, Winnemucca, NV; BLM-Nevada Carson City Field Office, Carson City, NV; BLM-Nevada State Office, Reno, NV; Public Library, Gerlach, NV; Public Library, Reno, NV; Pershing County Public Library, Lovelock, NV; Lyon County Library, Dayton, NV; Lyon County Library, Fernley, NV; BLM-California Surprise Field Office, Cedarville, CA; Modoc County Library, Cedarville, CA; Modoc County Library, Alturas CA; BLM-California State Office, Sacramento, CA; and BLM-California Eagle Lake Field Office, Susanville, CA. Persons who are not able to inspect the RMP/ROD either on-line or at one of the locations provided may request one of a limited number of printed copies or compact discs (CDs) by contacting the NCA Planning Staff at the Winnemucca Field Office by e-mail at wfoweb@nv.blm.gov, by telephone at (775) 623-1500, or by fax at (775) 623-1503. Requests should be directed to the NCA Planning Staff, clearly state that it is a request for a printed copy or CD of the Black Rock-High Rock RMP/ROD, and include the name, mailing address and phone number of the requesting party.

FOR FURTHER INFORMATION CONTACT: David C. Cooper, NCA Manager, BLM Winnemucca Field Office, 5100 E Winnemucca Blvd., Winnemucca, NV 89445-2921, (775) 623-1500, wfoweb@nv.blm.gov (“Attn: NCA Manager” in subject line of message).

SUPPLEMENTARY INFORMATION: The RMP/ROD was developed with broad public participation through a 3-year collaborative planning process. This RMP/ROD addresses management on approximately 1.2 million acres of public land in the planning area. The RMP/ROD is designed to achieve or maintain objectives that were identified in the legislation that created the NCA and wilderness areas or developed through the planning process. The RMP/ROD includes a series of management actions to meet the desired resource conditions for upland and riparian vegetation, wildlife habitats, cultural and visual resources, livestock grazing and recreation.

The approved RMP is essentially the same as Alternative D in the Proposed RMP/Final Environmental Impact Statement (PRMP/FEIS), published in September 2003. BLM received eight protests to the PRMP/FEIS. No inconsistencies with State or local plans, policies or programs were identified during the Governor's consistency review of the PRMP/FEIS. As a result, only minor editorial modifications were made in preparing the RMP/ROD. These modifications corrected technical errors that were noted during review of the PRMP/FEIS and provided further clarification for some of the decisions.

Dated: May 10, 2004.
Terry A. Reed,
Field Manager, Winnemucca Field Office, Bureau of Land Management.

[FR Doc. 04-19606 Filed 9-2-04; 8:45 am]

BILLING CODE 4310-HC-P